FEDERAL EMERGENCY MANAGEMENT AGENCY

[FEMA-1426-DR]

Guam; Amendment No. 2 to Notice of a Major Disaster Declaration

AGENCY: Federal Emergency Management Agency (FEMA).

ACTION: Notice.

SUMMARY: This notice amends the notice of a major disaster declaration for the Territory of Guam (FEMA-1426-DR), dated July 6, 2002, and related determinations.

EFFECTIVE DATE: July 25, 2002.

FOR FURTHER INFORMATION CONTACT: Rich Robuck, Readiness, Response and Recovery and Directorate, Federal Emergency Management Agency, Washington, DC 20472, (202) 646-2705 or Rich.Robuck@fema.gov.

SUPPLEMENTARY INFORMATION: The notice of a major disaster declaration for the Territory of Guam is hereby amended to include Categories C through G under the Public Assistance program for the Territory of Guam determined to have been adversely affected by the catastrophe declared a major disaster by the President in his declaration of July 6, 2002:

The Territory of Guam for Categories C through G under the Public Assistance program (already designated for debris removal and emergency protective measures (Categories A and B), including direct Federal assistance at 75 percent Federal funding and Individual Assistance).

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

Joe M. Allbaugh,
Director.

[FR Doc. 02-19760 Filed 8-5-02; 8:45 am]

BILLING CODE 6718-02-P